DEPARTMENT OF HOMELAND SECURITY

Coast Guard

33 CFR Part 117

[CGD07-03-141]

RIN 1625-AA09

Drawbridge Operation Regulation; Biscayne Bay, Atlantic Intracoastal Waterway, Miami River, Miami-Dade County, FL

AGENCY: Coast Guard, DHS.

ACTION: Temporary final rule.

SUMMARY: The Coast Guard is temporarily changing the regulations governing the operation of the east and west spans of the Venetian Causeway bridges across the Miami Beach Channel on the Atlantic Intracoastal Waterway, and the Brickell Avenue and Miami Avenue bridges across the Miami River, Miami-Dade County. This rule will allow these bridges to remain in the closed position during the Miami Tropical Marathon on February 1, 2004.

DATES: This temporary rule is effective from 6:05 a.m. until 11:59 a.m. on February 1, 2004.

ADDRESSES: Comments and material received from the public, as well as documents indicated in this preamble as being available in the docket, are part of docket [CGD-07-03-141] and are available for inspection or copying at Commander (obr), Seventh Coast Guard District, 909 SE. 1st Avenue, Room 432, Miami, FL, 33131, between 7:30 a.m. and 4 p.m., Monday through Friday, except Federal holidays. The Seventh Coast Guard District, Bridge Branch, maintains the public docket for this rulemaking.

FOR FURTHER INFORMATION CONTACT: Mr. Barry Dragon, Project Officer, Seventh Coast Guard District, Bridge Branch, at (305) 415-6743.

SUPPLEMENTARY INFORMATION:

Regulatory History

On October 10, 2003, we published a notice of proposed rulemaking (NPRM) entitled Drawbridge Operation Regulation; Biscayne Bay, Atlantic Intracoastal Waterway, Miami River, Miami-Dade County, Florida, in the Federal Register (68 FR 197). We received no letters commenting on the proposed rule. No public meeting was requested, and none was held.

Background and Purpose

The Miami Marathon Director requested that the Coast Guard temporarily change the existing regulations governing the operation of the east and west spans of the Venetian Causeway bridges, and the Brickell Avenue and Miami Avenue bridges, to allow them to remain in the closed position during the running of the Miami Tropical Marathon on February 1, 2004. The marathon route passes over these four bridges, and any bridge opening would disrupt the race. Based on the limited amount of time the bridges will be closed, the rule will still provide for the reasonable needs of navigation on the day of the event.

The east and west spans of the Venetian Causeway bridges are located between Miami and Miami Beach. The current regulation governing the operation of the east span of the Venetian Causeway bridge is published in 33 CFR 117.269 and requires the bridge to open on signal; except that, from November 1 through April 30 from 7:15 a.m. to 8:45 a.m. and from 4:45 p.m. to 6:15 p.m. Monday through Friday, the draw need not open. However, the draw shall open at 7:45 a.m., 8:15 a.m., 5:15 p.m., and 5:45 p.m., if any vessel is waiting to pass. The draw shall open on signal on Thanksgiving Day, Christmas Day, New Year's Day and Washington's Birthday. Moreover, the bridge must open for public vessels of the United States, tugs with tows, regularly scheduled cruise vessels, and vessels in distress.

The regulation governing the west span of the Venetian Causeway bridge is published in 33 CFR 117.5 and requires the bridge to open on signal.

The operating schedule of the Brickell Avenue and Miami Avenue bridges is published in 33 CFR 117.305 and requires each bridge to open on signal; except that, from 7:30 a.m. to 9 a.m. and 4:30 p.m. to 6 p.m. Monday through Friday, except Federal holidays, the draws need not open for the passage of vessels. Public vessels of the United States and vessels in an emergency involving danger to life or property are allowed to pass at any time.

This temporary rule will not adversely affect the reasonable needs of navigation due to the limited time, six hours, the bridges will be in the closed position.

Discussion of Rule

The Coast Guard is temporarily changing the operating regulations of the east and west spans of the Venetian Causeway bridges, and the Brickell Avenue and Miami Avenue bridges, on February 1, 2004. This temporary rule will allow the east span of the Venetian Causeway bridge to remain closed from 6:05 a.m. to 8:40 a.m. on February 1, 2004. The temporary rule will allow the west span of the Venetian Causeway to remain closed from 6:15 a.m. to 9:20 a.m. on February 1, 2004. The Brickell Avenue bridge will remain closed from 7:10 a.m. to 11:59 a.m. on February 1, 2004. The Miami Avenue bridge will remain closed from 6:25 a.m. to 10 a.m. on February 1, 2004. Public vessels of the United States and vessels in distress shall be passed at anytime.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS). The temporary rule will only affect a small percentage of vessel traffic through these bridges during these times. The east and west spans of the Venetian Causeway bridges and the Miami Avenue bridge will be closed on a Sunday for about three hours from approximately 6 a.m. in the morning, when vessel traffic is minimal. The Brickell Avenue Bridge will be closed for slightly longer, for five hours, but the day, time and location of the bridge indicate that vessel traffic will be minimal as well when this rule is in effect. Overall, the temporary rule, will affect only a small percentage of vessel traffic through these bridges during these time frames.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. The small entities affected will be marine traffic requiring passage through these bridges during the Sunday morning hours of February 1, 2004. These vessels will not be able to pass through these bridges during the effective times of this rule. However, no public comments were received on this, or any other subject, with regard to the rule. Due to the limited effective times of the rule and the nominal amount of marine traffic affected, this rule will not have a significant economic impact on a substantial number of small entities.

Assistance for Small Entities

Under section 213(a) of the Small Business Regulatory Enforcement Fairness Act of 1996 (Pub. L. 104-121), we offered to assist small entities in understanding the want to assist small entities in understanding the rule so that they can better evaluate its effects on them and participate in the rulemaking process. If this temporary rule would affect your small business, organization, or governmental jurisdiction and you have questions concerning its provisions or options for compliance, please contact the person listed in FOR FURTHER INFORMATION CONTACT.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule would not result in such an expenditure, we do discuss the effects of this rule elsewhere in the preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that Order, because it is not a “significant regulatory action” under Executive Order 12866 and is not likely to have a significant adverse effect on the supply, distribution, or use of energy. It has not been designated by the Administrator of the Office of Information and Regulatory Affairs as a significant energy action. Therefore, it does not require a statement of Energy Effects under Executive Order 13211.

Environment

We have analyzed this rule under Commandant Instruction M16475.1D, which guides the Coast Guard in complying with the National Environmental Policy Act of 1969 (NEPA)(42 U.S.C. 4321-4370f), and have concluded that there are no factors in this case that would limit the use of a categorical exclusion under section 2.B.2 of the Instruction. Therefore, this rule is categorically excluded, under figure 2-1, paragraph (32)(e) of the Instruction, from further environmental documentation. Under figure 2-1, paragraph (32)(e), of the Instruction, an “Environmental Analysis Check List” and a “Categorical Exclusion Determination” are not required for this rule.

List of Subjects in 33 CFR Part 117

Bridges.

For the reasons discussed in the preamble, the Coast Guard amends 33 CFR part 117 as follows:

PART 117—DRAWBRIDGE OPERATION REGULATIONS

1. The authority citation for Part 117 continues to read as follows:

Authority: 33 U.S.C. 499; 33 CFR 1.05-1(g); Department of Homeland Security Delegation No. 0170.1; section 117.255 also issued under authority of Pub. L. 102-587, 106 Stat. 5039.

2. From 6:15 a.m. until 9:20 a.m. on February 1, 2004, in § 117.261, paragraph (nn) is suspended and a new paragraph (vv) is added to read as follows:

§ 117.261 Atlantic Intracoastal Waterway from St. Marys River to Key Largo

* * * * *

(vv) West Span of the Venetian Causeway, mile 1088.6 at Miami. The draw need not open from 6:15 a.m. until 9:20 a.m. on February 1, 2004. Public vessels of the United States and vessels in distress shall be passed at anytime.

3. From 6:05 a.m. until 8:40 a.m. on February 1, 2004, in § 117.269, temporarily designate the existing regulatory text as paragraph (a), suspend newly designated paragraph (a), and add a new paragraph (b) to read as follows:

§ 117.269 Biscayne Bay

* * * * *

(b) The draw of the east span of the Venetian Causeway bridge across Miami Beach Channel need not open from 6:05 a.m. to 8:40 a.m. on February 1, 2004. Public vessels of the United States and vessels in distress shall be passed at anytime.

4. From 6:25 a.m. until 11:59 a.m. on February 1, 2004, in § 117.305, temporarily designate the existing regulatory text as paragraph (a), suspend newly designated paragraph (a), and add new paragraphs (b) and (c) to read as follows:

§ 117. 305 Miami River.

* * * * *

(b) The draw of each bridge from the mouth to and including the NW. 27th Avenue bridge, mile 3.7 at Miami, except the Miami Avenue and Brickell Avenue bridges, shall open on signal: except that, from 7:30 a.m. to 9 a.m. and from 4:30 p.m. to 6 p.m. Monday through Friday, except Federal holidays, the draws need not be opened for the passage of vessels. Public vessels of the United States and vessels in an emergency involving danger to life or property shall be passed at any time.

(c) The Miami Avenue bridge, across the Miami River, need not open from 6:25 a.m. to 10 a.m. on February 1, 2004, and the Brickell Avenue bridge, across the Miami River, need not open from 7:10 a.m. to 11:59 a.m. on February 1, 2004. Public vessels of the United States and vessels in an emergency involving danger to life or property shall be passed at any time.

Dated: December 18, 2003.
Fred M. Rosa, Jr.,
Captain, U.S. Coast Guard, Acting Commander, Seventh Coast Guard District.

[FR Doc. 04-388 Filed 1-8-04; 8:45 am]

BILLING CODE 4910-15-P